DEPARTMENT OF TRANSPORTATION

Federal Aviation Administration

14 CFR Part 39

[Docket No. 2000-SW-14-AD]

Airworthiness Directives; Eurocopter France Model SA330F, G, and J Helicopters

AGENCY: Federal Aviation Administration, DOT.

ACTION: Notice of proposed rulemaking (NPRM).

SUMMARY: This document proposes the supersedure of an existing airworthiness directive (AD) for Eurocopter France Model SA330F, G, and J helicopters. That AD requires inspecting the tail rotor blade (blade) skin for cracks and replacing, as necessary, the blade. This action would require skin bonding and eddy current inspections of the blade skin for cracks and would reference a more recent service bulletin (SB). This proposal is prompted by improved inspection methods and by the manufacturer revising the SB referenced in the current AD. The actions specified by the proposed AD are intended to prevent fatigue cracking of a blade, failure of a blade, and subsequent loss of control of the helicopter.

DATES: Comments must be received on or before October 10, 2000.

ADDRESSES: Submit comments in triplicate to the Federal Aviation Administration (FAA), Office of the Regional Counsel, Southwest Region, Attention: Rules Docket No. 2000-SW-14-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

The service information referenced in the proposed rule may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed because of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-14-AD.” The postcard will be date stamped and returned to the commenter.

Availability of NPRMs

You may obtain a copy of this NPRM by submitting a request to the FAA, Office of the Regional Counsel, Attention: Rules Docket No. 2000-SW-14-AD, 2601 Meacham Blvd., Room 663, Fort Worth, Texas 76137.

Discussion

On May 23, 1980, the FAA issued AD 80-12-04, Amendment 39-3790 (45 FR 37180, June 2, 1980), to require repetitive inspections of each blade skin for cracks and replacement, as necessary, of the blade to prevent fatigue failure. That action was prompted by the loss of a blade. The requirements of that AD are intended to prevent loss of directional control of the helicopter.

Since the issuance of that AD, Aerospatiale SB 05.71R4, dated December 18, 1990, (SB 05.71R4) replaced Aerospatiale SB No. 05.59R2, dated November 18, 1982 (SB 05.59R2). Since SB 05.59R2 is canceled, the actions in this AD would be accomplished in accordance with SB 05.71R4.

We have identified an unsafe condition that is likely to exist or develop on other Eurocopter France Model SA330F, G, and J helicopters of these same type designs. The proposed AD would supersede AD 80-12-04 and contain the same inspection requirements but would extend the repetitive inspection interval from 5 hours time-in-service (TIS) to 15 or 30 hours TIS depending on whether a deicing system is installed.

The FAA estimates that 4 helicopters of U.S. registry would be affected by this proposed AD, that it would take approximately 1.5 work hours per helicopter to accomplish the proposed actions, and that the average labor rate is $60 per work hour. Based on these figures, the total cost impact of the proposed AD on U.S. operators is estimated to be $360.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption “ADDRESSES.”

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-3790 (45 FR 37130, June 2, 1980) and by adding a new airworthiness directive (AD), to read as follows:

Eurocopter France: Docket No. 2000-SW-14-AD. Supersedes AD 80-12-04, Amendment 39-3790, Docket No. 20384.

Applicability: Model SA330F, G, and J helicopters with a tail rotor blade (blade), part number (P/N) 330A12-0000-(all dash numbers), 330A12-0005-(all dash numbers), 330A12-0006-(all dash numbers), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent fatigue cracking of a blade, failure of a blade, and subsequent loss of control of the helicopter, accomplish the following:

(a) Within 30 hours time-in-service (TIS), and thereafter at intervals not to exceed 15 hours TIS for blades equipped with deicing systems or 30 hours TIS for blades without deicing systems, conduct skin bonding and eddy current inspections on each affected blade for skin bonding and a crack. Inspect in accordance with paragraph 1.C of Aerospatiale Service Bulletin 05.71R4, dated December 18, 1990. Replace any blade failing the skin bonding inspection or eddy current inspection before further flight.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with sections 21.197 and 21.199 of the Federal Aviation Regulations (14 CFR 21.197 and 21.199) to operate the helicopter to a location where the requirements of this AD can be accomplished.

Issued in Fort Worth, Texas, on August 2, 2000.
Henry A. Armstrong,
Manager, Rotorcraft Directorate, Aircraft Certification Service.

[FR Doc. 00-20249 Filed 8-9-00; 8:45 am]

BILLING CODE 4910-13-P